DEPARTMENT OF COMMERCE

[I.D. 101802E]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Economic Performance Data for West Coast (California-Alaska) Commercial Fisheries.

Form Number(s): None.

OMB Approval Number: 0648-0369.

Type of Request: Regular submission.

Burden Hours: 7,074.

Number of Respondents: 2,278.

Average Hours Per Response: 3 hours for catcher vessels; 8 hours for processors; and 1 hour for charter boat operators.

Needs and Uses: This proposed collection of economic performance data for West Coast and Alaska fisheries supports a cooperative agreement between NOAA and the Pacific States Marine Fisheries Commission. The data will be used to: monitor economic performance of these fisheries, analyze the economic effects of current and alternative management measures, and to meet the requirements of the Magnuson-Stevens Fishery Conservation and Management Act, National Environmental Policy Act, the Regulatory Flexibility Act, and Executive Order 12866. Data will also be used in support of State fishery management activities, by the industry, and the general public.

Affected Public: Business or other for-profit organizations.

Frequency: On occasion.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, Room 10202, New Executive Office Building, Washington, DC 20503.

Dated: October 17, 2002.
Gwellnar Banks,
Management Analyst, Office of the Chief Information Officer.

[FR Doc. 02-27165 Filed 10-23-02; 8:45 am]

BILLING CODE 3510-22-S